DEPARTMENT OF STATE

[Public Notice: 12939]

Notice of Public Meeting To Prepare for International Maritime Organization FAL 50 Session

The Department of State will conduct a public meeting at 1:00 p.m. EDT on Tuesday, March 17, 2026, via teleconference through Microsoft Teams. The primary purpose of the meeting is to prepare for the fiftieth session of the International Maritime Organization's (IMO) Facilitation Committee (FAL 50) to be held in London, United Kingdom, from Monday, March 23, 2026 to Friday, March 27, 2026.

The agenda items to be considered include:

—Adoption of the agenda;

—Decisions of other IMO bodies;

—Consideration and adoption of proposed amendments to the Convention;

—Amendments to the FAL Convention to introduce mandatory reporting of the API and BRI for maritime transport;

—Amendments to the FAL Convention to introduce mandatory cybersecurity measures to safeguard the maritime single windows;

—Application of single window concept;

—Review and revision of the IMO Compendium on Facilitation and Electronic Business, including additional e-business solutions;

—Development of a comprehensive strategy on maritime digitalization;

—Revision of the Guidelines on maritime cyber risk management (MSC.FAL.1/Circ.3/Rev.2) and identification of next steps to enhance maritime cybersecurity;

—Measures to address Maritime Autonomous Surface Ships (MASS) in the instruments under the purview of the Facilitation Committee;

—Development of amendments to the Revised guidelines for the prevention and suppression of the smuggling of drugs, psychotropic substances and precursor chemicals on ships engaged in international maritime traffic (resolutions FAL.9(34) and MSC.228(82));

—Development of amendments to the Revised guidelines on the prevention of access by stowaways and the allocation of responsibilities to seek the successful resolution of stowaway cases (resolutions FAL.13(42) and MSC.448(99));

—Unsafe mixed migration by sea;

—Consideration and analysis of reports and information on persons rescued at sea and stowaways;

—Technical cooperation activities related to facilitation of maritime traffic;

—Application of the Committee's procedures on organization and method of work;

—Work programme;

—Election of the Chair and Vice-Chair for 2027;

—Any other business;

—Consideration of the report to the Committee on its fiftieth session.

Please note: The IMO may, on short notice, adjust the FAL 50 agenda to accommodate any constraints associated with the meeting. Although no changes to the agenda are anticipated, if any are necessary, they will be provided to those who RSVP.

Those who plan to participate may contact the meeting coordinator, LCDR Amy Gayman at Amy.E.Gayman@uscg.mil, by phone at 571-608-8882, or in writing at 2703 Martin Luther King Jr. Ave. SE, Stop 7509, Washington, DC 20593-7509, not later than March 3, 2026. Members of the public needing reasonable accommodation should advise LCDR Amy Gayman no later than March 3, 2026. Requests made after that date will be considered but might not be possible to fulfill.

Additional information regarding this and other IMO public meetings may be found at: https://www.dco.uscg.mil/IMO.

(Authority: 22 U.S.C. 2656 and 5 U.S.C. 552)

Emily C. Miletello,
Coast Guard Liaison Officer, Office of Ocean and Polar Affairs, U.S. Department of State.

[FR Doc. 2026-02174 Filed 2-2-26; 8:45 am]

BILLING CODE 4710-05-P